INTERNATIONAL TRADE COMMISSION

[Investigation No. 731-TA-1046 (Fourth Review)]

Tetrahydrofurfuryl Alcohol from China; Revised Schedule for the Subject Proceeding

AGENCY: United States International Trade Commission.

ACTION: Notice.

DATES: November 25, 2025.

FOR FURTHER INFORMATION CONTACT: Alec Resch (202-708-1448), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective October 1, 2025, the Commission established a schedule for the conduct of the subject proceeding (90 FR 47328, October 1, 2025). Due to the lapse in appropriations and ensuing cessation of Commission operations, the Commission is revising its schedule as follows: responses to the notice of institution are due December 17, 2025; comments concerning the adequacy of responses to the notice of institution and whether the Commission should conduct an expedited or full review are due January 27, 2026. The deadline for persons, including industrial users of the Subject Merchandise and, if the merchandise is sold at the retail level, representative consumer organizations, wishing to participate in the proceeding as parties, to file an entry of appearance, which was originally set for 21 days after the publication of the notice of institution on October 1, 2025 (90 FR 47328), has been tolled by 47 days.

For further information concerning this proceeding, see the Commission's notice cited above and the Commission's Rules of Practice and Procedure, part 201, subparts A and B (19 CFR part 201), and part 207, subparts A, D, E, and F (19 CFR part 207).

Authority: This proceeding is being conducted under authority of title VII of the Tariff Act of 1930; this notice is published pursuant to section 207.62 of the Commission's rules.

By order of the Commission.
Issued: November 26, 2025.
Sharon Bellamy,
Supervisory Hearings and Information Officer.

[FR Doc. 2025-21731 Filed 12-1-25; 8:45 am]

BILLING CODE 7020-02-P